SMALL BUSINESS ADMINISTRATION

[Declaration of Disaster #3307]

State of Hawaii

As a result of the President's major disaster declaration on November 9, 2000, I find that the County and Island of Hawaii constitute a disaster area due to damages caused by severe storms and flooding beginning on October 28, 2000 and continuing through November 2, 2000. Applications for loans for physical damage as a result of this disaster may be filed until the close of business on January 8, 2001, and for loans for economic injury until the close of business on August 9, 2001 at the address listed below or other locally announced locations: U.S. Small Business Administration, Disaster Area 4 Office, P.O. Box 13795, Sacramento, CA 95853-4795.

The interest rates are:

| Percent
For Physical Damage:
Homeowners with credit available elsewhere | 7.375
Homeowners without credit available elsewhere | 3.687
Businesses with credit available elsewhere | 8.000
Businesses and non-profit organizations without credit available elsewhere | 4.000
Others (including non-profit organizations) with credit available elsewhere | 6.750
For Economic Injury:
Businesses and small agricultural cooperatives without credit available elsewhere | 4.000

The number assigned to this disaster for physical damage is 330706 and for economic injury the number is 9J4700.

(Catalog of Federal Domestic Assistance Program Nos. 59002 and 59008)
Dated: November 16, 2000.
Herbert L. Mitchell,
Acting Associate Administrator for Disaster Assistance.

[FR Doc. 00-29901 Filed 11-21-00; 8:45 am]

BILLING CODE 8025-01-P